DEPARTMENT OF COMMERCE

Foreign-Trade Zones Board

[Order No. 1288]

Expansion of Foreign-Trade Zone 62, Brownsville, TX

Pursuant to its authority under the Foreign-Trade Zones Act of June 18, 1934, as amended (19 U.S.C. 81a-81u), the Foreign-Trade Zones Board (the Board) adopts the following Order:

Whereas, the Brownsville Navigation District, grantee of Foreign-Trade Zone 62, submitted an application to the Board for authority to expand FTZ 62 to include a site at the FINSA Industrial Park (758 acres; includes temporary site) in Los Indios (Site 4) and to restore 10 acres at the Harlingen Industrial Airpark in Harlingen (Site 2—Parcel A), Texas, within the Brownsville/Los Indios Customs port of entry (FTZ Docket 8-2003; filed 1/24/03);

Whereas, notice inviting public comment was given in the Federal Register (68 FR 5272, 2/3/03) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 62 is approved, subject to the Act and the Board's regulations, including section 400.28, and further subject to the Board's standard 2,000-acre activation limit for the overall zone project.

Signed at Washington, DC, this 21st day of August 2003.
Jeffrey May,
Acting Assistant Secretary of Commerce for Import Administration, Alternate Chairman, Foreign-Trade Zones Board.

[FR Doc. 03-22436 Filed 9-2-03; 8:45 am]

BILLING CODE 3510-DS-P